DEPARTMENT OF THE INTERIOR

Fish and Wildlife Service

50 CFR Part 17

Endangered and Threatened Wildlife and Plants; Addition of White Abalone and the United States Distinct Vertebrate Population Segment of the Smalltooth Sawfish to the List of Endangered and Threatened Wildlife; Correction

AGENCY: Fish and Wildlife Service, Interior.

ACTION: Final rule; correction.

SUMMARY: We, the Fish and Wildlife Service (Service), published a final rule to add two marine taxa to the List of Endangered and Threatened Wildlife in accordance with the Endangered Species Act of 1973, as amended, on November 16, 2005. For one of the two taxa, the white abalone (Haliotis sorenseni), we incorrectly published in the List of Endangered and Threatened Wildlife at § 17.11(h) that the species was Threatened, when it is actually listed as Endangered. We now correct that error.

EFFECTIVE DATE: November 16, 2005.

FOR FURTHER INFORMATION CONTACT: Marjorie Nelson, Branch of Listing, Endangered Species Program, U.S. Fish and Wildlife Service, 4401 N. Fairfax Drive, Mail Stop 420, Arlington, Virginia 22203 (703-358-2105).

SUPPLEMENTARY INFORMATION: In the November 16, 2005, Federal Register (70 FR 69464), we published a final rule to add two marine taxa to the List of Endangered and Threatened Wildlife (List) in accordance with the Endangered Species Act of 1973, as amended (16 U.S.C. 1531 et seq.). For one of the two taxa, the white abalone (Haliotis sorenseni), we incorrectly indicated in the List at § 17.11(h) that this species was Threatened, when we should have indicated that it was Endangered. We now correct that error. This correction is typographical in nature and involves no substantial changes to the substance in the contents of our prior final rule.

List of Subjects in 50 CFR Part 17

Endangered and threatened species, Exports, Imports, Reporting and recordkeeping requirements, Transportation.

Regulation Correction

PART 17—[CORRECTED]

For reasons set forth in the preamble, we make the following correcting amendment to 50 CFR part 17:

1. The authority citation for part 17 continues to read as follows:

Authority: 16 U.S.C. 1361-1407; 16 U.S.C. 1531-1544; 16 U.S.C. 4201-4245; Pub. L. 99-625, 100 Stat. 3500; unless otherwise noted.

2. Amend § 17.11 by adding the following, in alphabetical order under CLAMS, to the List of Endangered and Threatened Wildlife:

§ 17.11 Endangered and Threatened Wildlife.

* * * * *

(h) * * *

Species: Common name | Species: Scientific name | Historic range | Vertebrate population where endangered or threatened | Status | When listed | Critical habitat | Special rules
* * * * * * *
Clams
* * * * * * *
Abalone, white | Haliotis sorenseni | North America (West Coast from Point Conception, CA, U.S.A., to Punta Abreojos, Baja California, Mexico) | NA | E | 748 | NA | NA
* * * * * * *

Dated: January 23, 2006.
Sara Prigan,
Fish and Wildlife Service Federal Register Liaison.

[FR Doc. 06-1081 Filed 2-6-06; 8:45 am]

BILLING CODE 4310-55-P